DEPARTMENT OF STATE

[Public Notice: 12288]

Designation of Mohamed Ali Nkalubo and Ahmed Mahamud Hassan Aliyani as Specially Designated Global Terrorists

Acting under the authority of and in accordance with section 1(a)(ii)(B) of Executive Order 13224, as amended (“E.O. 13224” or “Order”), I hereby determine that the persons known as Mohamed Ali Nkalubo (also known as Meddie Nkalubo and Meddie Lee) and Ahmed Mahamud Hassan Aliyani (also known as Ahmed Mahmoud Hassan and Ahmad Mahmoud Hassan) are leaders of ISIS-DRC, an entity whose property and interests in property are currently blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: December 6, 2023.
Antony J. Blinken,
Secretary of State.

[FR Doc. 2023-27995 Filed 12-19-23; 8:45 am]

BILLING CODE 4710-AD-P